NUCLEAR REGULATORY COMMISSION

[NRC-2009-0537; Docket Nos. 50-269, 50-270, and 50-287]

Duke Energy Carolinas, LLC; Oconee Nuclear Station Units 1, 2, and 3; Environmental Assessment and Finding of No Significant Impact

The U.S. Nuclear Regulatory Commission (NRC) is considering issuance of amendments to Facility Operating License Nos. DPR-38, DPR-47, and DPR-55, issued to Duke Energy Carolinas, LLC (the licensee), for operation of the Oconee Nuclear Station Units 1, 2, and 3, located in Oconee County, South Carolina, in accordance with Title 10 of the Code of Federal Regulations (10 CFR), Section 50.90. Therefore, as required by 10 CFR 51.21, the NRC performed an environmental assessment. Based on the results of the environmental assessment, the NRC is issuing a finding of no significant impact.

Environmental Assessment

Identification of the Proposed Action

The proposed action would approve changes to the Technical Specifications (TSs) and approve changes to the licensee's updated Final Safety Analysis Report (UFSAR) associated with the acceptance of the new reactor protective system and engineered safeguard protective system (RPS/ESPS) digital upgrade.

The proposed action is in accordance with the licensee's application dated January 31, 2008, as supplemented by letters dated, April 3, 2008, April 29, 2008, May 15, 2008, May 28, 2008, September 30, 2008, October 7, 2008, October 16, 2008, October 23, 2008, October 28, 2008, November 6, 2008, November 19, 2008, November 25, 2008, December 22, 2008, February 27, 2009, March 6, 2009, April 3, 2009 (2 separate letters), April 30, 2009, June 19, 2009, and August 10, 2009.

The Need for the Proposed Action

The proposed action is needed to allow the licensee to replace the existing RPS/ESPS with a new digital RPS/ESPS. The licensee is replacing the existing RPS/ESPS because acquiring replacement parts has become very difficult.

Environmental Impacts of the Proposed Action

The NRC has completed its evaluation of the proposed action and concludes that the licensee may make changes to the TSs and update the UFSAR to allow the removal to the existing RPS/ESPS and replace it with a new digital RPS/ESPS.

The details of the staff's safety evaluation will be provided in the license amendments that will be issued as part of the letter to the licensee approving the license amendments.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic, cultural, or environmental justice impacts associated with such proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action. Denial of the application would result in no change in current environmental impacts. The environmental impacts of the proposed action and the alternative action are similar.

Alternative Use of Resources

The action does not involve the use of any different resources than those previously considered in the Final Environmental Statement for the Oconee Nuclear Station, Units 1, 2, and 3, and the Final Supplemental Environmental Impact Statement (NUREG-1437 Supplement 2) dated December 1999.

Agencies and Persons Consulted

In accordance with its stated policy, on November 6, 2009, the staff consulted with the South Carolina State official, Mr. Robert M. Gandy, of the South Carolina Department of Health and Environmental Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter January 31, 2008, as supplemented by letters dated April 3, 2008, April 29, 2008, May 15, 2008, May 28, 2008, September 30, 2008, October 7, 2008, October 16, 2008, October 23, 2008, October 28, 2008, November 6, 2008, November 19, 2008, November 25, 2008, December 22, 2008, February 27, 2009, March 6, 2009, April 3, 2009 (2 separate letters), April 30, 2009, June 19, 2009, and August 10, 2009.

Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 1st day of December 2009.
For the Nuclear Regulatory Commission.
V. Sreenivas,
Project Manager, Plant Licensing Branch II-1, Division of Operating Reactor Licensing, Office of Nuclear Reactor Regulation.

[FR Doc. E9-29198 Filed 12-7-09; 8:45 am]

BILLING CODE 7590-01-P